FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011284-054.

Title: Ocean Carrier Equipment Management Association Agreement (“OCEMA”).

Parties: APL Co. Pte. Ltd.; American President Lines, Ltd.; A.P. Moller-Maersk A/S, trading under the name of Maersk Sealand; CMA CGM, S.A.; Compania Sudamericana de Vapores, S.A.; Evergreen Marine Corp. (Taiwan) Ltd.; Hanjin Shipping Co., Ltd.; Hamburg-Südamerikanische Dampfschifffahrts-Gesellschaft KG; Hapag-Lloyd Container Linie GmbH; Hyundai Merchant Marine Co. Ltd.; Mitsui O.S.K. Lines Ltd.; Lykes Lines Limited, LLC; TMM Lines Limited, LLC; Contship Containerlines, a division of CP Ships (UK) Limited; Australia-New Zealand Direct Line, a division of CP Ships (UK) Limited; Orient Overseas Container Line Limited; P&O Nedlloyd Limited; P&O Nedlloyd B.V.; Nippon Yusen Kaisha Line; Yangming Marine Transport Corp.; COSCO Containerlines Company Limited; Kawasaki Kisen Kaisha, Ltd.; and Crowley Maritime Corporation.

Synopsis: The proposed agreement amendment would delete provisions allowing for associate membership and add language that describes more specifically the agreement authority regarding charges relating to the interchange of ocean carrier equipment.

Agreement No.: 011517-009.

Title: APL/HSDG/Lykes/Evergreen Vessel Sharing Agreement.

Parties: American President Lines Ltd./APL Co, PTE LTD, Hamburg-Südamerikanische Dampfschifffahrts-Gesellschaft KG, Lykes Lines Limited, LLC, and Evergreen Marine Corp (Taiwan) Ltd.

Synopsis: The amendment amends the trade names and addresses of certain of the parties, changes the name of the agreement and restates the agreement.

Agreement No.: 011741-006.

Title: U.S. Pacific Coast-Oceania Agreement.

Parties: A.P. Moller-Maersk A/S, trading under the name of Maersk Sealand; Australia-New Zealand Direct Line, a division of CP Ships (UK) Limited/Lykes Lines Limited LLC; FESCO Ocean Management Limited; Hamburg-Südamerikanische Dampfschifffahrts-Gesellschaft KG; P&O Nedlloyd Limited/P&O Nedlloyd B.V.

Synopsis: The proposed agreement amendment would add provisions allowing the parties to alter the number of vessels they deploy, within a limited range, without amending their agreement.

Dated: December 31, 2003.
By Order of the Federal Maritime Commission.
Bryant L. VanBrakle, Secretary.

[FR Doc. 04-250 Filed 1-6-04; 8:45 am]

BILLING CODE 6730-01-P